DEPARTMENT OF DEFENSE

Department of the Army; Corps of Engineers

Withdrawal Of Notice of Intent To Prepare a Draft Supplemental Environmental Impact Statement for the Federal Flood Control Project For Hunting Bayou, Harris County, TX

AGENCY: Department of the Army, U.S. Army Corps of Engineers, DoD.

ACTION: Notice of intent; Withdrawal.

SUMMARY: The U.S. Army Corps of Engineers (Corps), Galveston District, is issuing this notice to advise Federal, state, and local government agencies and the public that the Corps is withdrawing its Notice of Intent to prepare a Supplemental Environmental Impact Statement (SEIS) for the reformulation of a new flood damage reduction plan for the Hunting Bayou watershed in Houston, Harris County, TX.

FOR FURTHER INFORMATION CONTACT: Carolyn Murphy, Chief, Environmental Section at (409) 766-3044 or by mail at U.S. Army Corps of Engineers, P.O. Box 1229, Galveston, TX 77553-1229. Email address: carolyn.e.murphy@usace.army.mil.

SUPPLEMENTARY INFORMATION: The Corps of Engineers published a notice of intent to prepare a Supplemental Environmental Impact Statement in the August 30, 2002 issue of the Federal Register (67 FR 55824). Since that time, public and resource agency involvement through meetings, changes in plan formulation, and re-evaluation of the project have reduced the magnitude and extent of proposed flood damage reduction remedies and associated environmental impacts to the point that an SEIS is no longer necessary or required. Therefore the Corps has decided to document, evaluate, and further coordinate project impacts in an Environmental Assessment.

Diana Laird,
Chief, Planning and Environmental Branch.

[FR Doc. 2013-16030 Filed 7-2-13; 8:45 am]

BILLING CODE 3710-58-P